COMMITTEE FOR PURCHASE FROM PEOPLE WHO ARE BLIND OR SEVERELY DISABLED

Procurement List; Proposed Addition and Deletions

AGENCY: Committee for Purchase From People Who Are Blind or Severely Disabled.

ACTION: Proposed addition to and deletions from the Procurement List.

SUMMARY: The Committee is proposing to add a product to the Procurement List that will be furnished by nonprofit agencies employing persons who are blind or have other severe disabilities, and deletes products previously furnished by such agencies.

DATES: Comments must be received on or before: September 29, 2019.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed addition, the entities of the Federal Government identified in this notice will be required to procure the product listed below from nonprofit agencies employing persons who are blind or have other severe disabilities.

The following product is proposed for addition to the Procurement List for production by the nonprofit agency listed:

Products

NSN—Product Name: MR 10781—Holder, Sponge, Duo, Includes Shipper 20781

Mandatory Source of Supply: Winston-Salem Industries for the Blind, Inc., Winston-Salem, NC

Contracting Activity: Military Resale-Defense Commissary Agency

Deletions

The following products are proposed for deletion from the Procurement List:

Products

NSN—Product Name: 8465-00-177-4976—Sleevelet, Upper Arm, High-Visibility Safety, Orange Mesh with Silver Reflective, 8¾″

Mandatory Source of Supply: Bestwork Industries for the Blind, Inc., Cherry Hill, NJ

Contracting Activity: GSA/FSS GREATER SOUTHWEST ACQUISITI, FORT WORTH, TX

NSNs—Product Names:

8415-01-538-6681—Wind Jacket, ECWCS Gen III, Layer IV, U.S. Army, Universal Camouflage, X-Large/Regular

8415-01-538-6683—Wind Jacket, ECWCS Gen III, Layer IV, U.S. Army, Universal Camouflage, X-Large/Long

Mandatory Source of Supply: Blind Industries & Services of Maryland, Baltimore, MD

Contracting Activity: DLA TROOP SUPPORT, PHILADELPHIA, PA

Patricia Briscoe,
Deputy Director, Business Operations (Pricing and Information Management).

[FR Doc. 2019-18791 Filed 8-29-19; 8:45 am]

BILLING CODE 6353-01-P